DEPARTMENT OF COMMERCE

National Oceanic and Atmospheric Administration

[RTID 0648-XD558]

Identifying Aquaculture Opportunity Areas in Alaska

AGENCY: National Marine Fisheries Service (NMFS), National Oceanic and Atmospheric Administration (NOAA), Commerce.

ACTION: Notice; request for information.

SUMMARY: NOAA is adding a third webinar-based listening session as part of the process to identify Aquaculture Opportunity Areas (AOAs) in Alaska State waters to help sustainably advance invertebrate (e.g., shellfish, sea cucumber) and seaweed (e.g., macroalgae, kelp) aquaculture, in partnership with the State of Alaska. NOAA requests data, comments, views, information, analysis, or suggestions from the public to support the identification of AOAs in Alaska state waters, including siting parameters that can be used to select potential study areas for further analysis. Please respond to the questions listed in the SUPPLEMENTARY INFORMATION section, as appropriate. The addition of this listening session does not extend the comment period, which ends on December 18, 2023.

DATES: Written comments must be received on or before December 18, 2023. An additional webinar-based listening session is scheduled for Alaska: December 11, 2023, 2 p.m. to 4 p.m. (AKST) Alaska.

ADDRESSES: You may submit comments on this document, identified by NOAA-NMFS-2023-0113, by any of the following methods:

• Electronic Submission: Submit all electronic public comments via the Federal e-Rulemaking Portal. Go to https://www.regulations.gov and type NOAA-NMFS-2023-0113 in the Search box (note: copying and pasting the FDMS Docket Number directly from this document may not yield search results). Click on the “Comment” icon, complete the required fields, and enter or attach your comments.

• Mail: Submit written information to Jon Kurland, Regional Administrator for Alaska Region NMFS, Attn: Records Office. Mail comments to P.O. Box 21668, Juneau, AK 99802-1668.

• Webinar Links: Register for the webinar at: https://noaanmfs-meets.webex.com/weblink/register/rf39656052aa6aaae84996d71508b0846. Additional information can be found at: https://www.fisheries.noaa.gov/action/request-information-identifying-aquaculture-opportunity-areas-alaska.

Instructions: Comments sent by any other method, to any other address or individual, or received after the end of the comment period, may not be considered by NMFS. Responses to this request are voluntary. Respondents need not reply to all questions. All comments received are a part of the public record and will generally be posted for public viewing on https://www.regulations.gov without change. All personal identifying information (e.g., name, address, etc.), confidential business information, or otherwise sensitive information submitted voluntarily by the sender will be publicly accessible. NMFS will accept anonymous comments (enter“N/A” in the required fields if you wish to remain anonymous).

Please note that the U.S. Government will not pay for any costs that you may incur in responding to this Request for Information (RFI), or for the use of any information contained in the response. The documents and information submitted in response to this RFI become the property of the U.S. Government and will not be returned.

FOR FURTHER INFORMATION CONTACT: Alicia Bishop, 907-586-7724, nmfs.akr.aoainfo@noaa.gov.

SUPPLEMENTARY INFORMATION: An AOA is a defined geographic area that NOAA has evaluated through both spatial analysis and a programmatic National Environmental Policy Act (NEPA) process and determined to be environmentally, socially, and economically appropriate to support multiple commercial aquaculture operations. On June 1, 2023, NOAA announced the beginning of the process to identify AOAs in partnership with the State of Alaska in Alaska State waters. This is the beginning of a multi-year process in which NOAA and the State of Alaska will work to analyze locations and identify AOAs in Alaska State waters to help sustainably advance invertebrate (e.g., shellfish, sea cucumber) and seaweed (e.g., macroalgae, kelp) aquaculture. NOAA will not consider finfish aquaculture during identification of AOAs in Alaska because it is prohibited by state law.

NOAA has directives to preserve ocean sustainability and facilitate domestic aquaculture in the U.S., including through the National Aquaculture Act of 1980, the NOAA Marine Aquaculture Policy, and the Executive Order 1321, Promoting American Seafood Competitiveness and Economic Growth (May 7, 2020). NOAA has a variety of proven science-based tools and strategies that can support these directives and help communities thoughtfully consider how and where to sustainably develop aquaculture that will complement wild-capture fisheries, working waterfronts, and our Nation's seafood processing and distribution infrastructure.

The areas identified as AOAs will have characteristics that are expected to be able to support multiple aquaculture farm sites of varying types; however, all portions of the AOA may not be appropriate for aquaculture or for all types of aquaculture. Identifying AOAs is an opportunity to use the best available science, which includes Indigenous Knowledge, and supports the “triple bottom line” of environmental, economic, and social sustainability. This approach has been refined and utilized widely within states and by other countries with robust, sustainable aquaculture sectors.

The Secretary of Commerce will identify AOAs in consultation with the Secretary of Defense, the Secretary of the Interior, the Secretary of Agriculture, the Secretary of Homeland Security, the Administrator of the Environmental Protection Agency, other appropriate Federal officials, and appropriate Regional Fishery Management Councils, and in coordination with appropriate State and Tribal governments.

NOAA held a 60-day public comment period in 2020 (85 FR 67519, October 23, 2020) to collect input on where in the country to focus the science-based, inclusive process to identify AOAs. During that comment period, NOAA received letters of support from individuals, industry, Alaska Native organizations, state agencies, and the state legislature to begin the process in Alaska State waters.

NOAA cannot conduct spatial modeling on the scale of the entire coast of Alaska, and will narrow down to study areas that will be the focus moving forward. This will be done using a combination of spatial mapping, scientific review, public input gathered through this RFI, and other relevant information. NOAA's National Centers for Coastal Ocean Science will use public input and the best available data, which includes Indigenous Knowledge, to account for key environmental, economic, social, and cultural considerations to identify areas that may support sustainable aquaculture development. NOAA will then combine those data with input from other State and Federal agencies, Fishery Management Councils, Marine Fisheries Commissions, Alaska Native Tribes and organizations, and the general public to identify areas that will be considered in more depth through the NEPA process. Through this notice, NOAA is requesting data, comments, views, information, analysis, or suggestions from the public to support the identification of AOAs in Alaska State waters, including siting parameters that can be used to select potential study areas for further analysis. The public input provided in response to this request for information will inform NOAA as it works with Federal, State, and local agencies, appropriate Regional Fishery Management Councils, and in coordination with appropriate Alaska Native Tribes and organizations to identify AOAs. Additional opportunities for public input will be provided during the NEPA process.

NOAA may use the information received through this notice in the NEPA process. The information could inform the development of potential NEPA alternatives, such as different locations, different aquaculture types in each location (e.g., seaweed in one location, shellfish in another location), and different configurations of farm locations or farming gear. NOAA expects to publish a notice of intent (NOI) to prepare a programmatic NEPA document. Public notices announcing the NOI and announcing the availability of a draft NEPA document will provide future opportunities for public comment on the identification of AOAs in Alaska State waters.

AOA identification is a planning process, and does not result in areas permitted for aquaculture. Future aquaculture operations proposed within an AOA would be subject to the same Federal and State permitting and authorization requirements as an aquaculture operation proposed anywhere else and would be required to comply with all applicable Federal and State laws and regulations. Site-specific environmental surveys may be required for the permitting process. Additional NEPA analysis beyond that completed for identification of AOA(s) may be necessary as a part of permitting and authorization processes for individual operations.

Additional information on identifying AOAs in Alaska, including frequently asked questions, is available on NOAA's website at: https://www.fisheries.noaa.gov/alaska/aquaculture/identifying-aquaculture-opportunity-areas-alaska.

Request for Information

NOAA requests data, comments, views, information, analysis, or suggestions from the public to support the identification of AOAs in Alaska state waters, including siting parameters that can be used to select potential study areas for further analysis.

NOAA proposes using the following parameters to select study areas in Alaska State waters:

a. State waters within a 25-mile (40-kilometer) radius of coastal community population centers (based on 2010 census data) as a proxy for needed infrastructure to support aquaculture development in Alaska.

b. State waters that do not regularly experience significant sea ice cover (based on the 10 year aggregate maximum sea ice cover reported by the U.S. National Ice Center).

Figures showing the potential AOA study areas that would result from use of these parameters can be found on the NOAA's National Centers for Coastal Ocean Science Alaska AOA study area website: https://coastalscience.noaa.gov/news/alaska-aquaculture-opportunity-areas/.

These parameters are proposed starting points, from which NOAA will select study areas using a combination of spatial mapping approaches, scientific review, public input, Indigenous Knowledge, and any other relevant information.

Specifically, NOAA is soliciting information and feedback on:

1. Are the preliminary parameters (noted above) useful? Are there other parameters NOAA should consider in identifying initial study areas for the aquaculture siting analysis? Are there other distances from population centers/local infrastructure that should be considered, and why?

2. Are there size limitations NOAA should consider for AOAs in Alaska? How many farms should fit within an AOA? Should the size of AOAs be aligned with state economic development goals for shellfish and seaweed aquaculture?

3. Are there specific locations within Alaska State waters that should be considered or avoided for AOAs? Please be as specific as possible and include latitude and longitude or defining landmarks. Please indicate why such areas should be considered or avoided, for example, favorable biological parameters, water quality (e.g., nutrients or other constituents that might make an area favorable), proximity to infrastructure (e.g., ports, testing or processing facilities, or hatcheries that could supply seed for grow-out), relationship to other planned initiatives, etc.

4. Are there subsistence harvest locations, fishing areas, and other traditionally and culturally important locations or sacred sites that should be avoided? Is there available spatial data or geographic information system (GIS) layers, or a point of contact for these data or information?

5. Are there specific locations within Alaska State waters where the presence of aquaculture gear may overlap with sensitive habitats or biologically important areas for protected species (e.g., whales, sea otters, sea lions, etc.)?

6. Are there specific locations within Alaska State waters that should be avoided because of concerns about harmful algal blooms (HABs) or impaired water quality?

7. Is there ongoing environmental, economic, or social science research that would assist in the identification of AOAs in Alaska State waters? If so, please describe in as much detail as is available.

8. Is there information that may not be readily available or accessible online that would be useful for AOA planning processes in Alaska State waters? This includes spatial data or GIS layers representing subsistence, environmental, and socioeconomic considerations, or a point of contact for these data, for the following categories:

a. Biophysical/oceanographic (ice cover, temperature, ocean acidification indices, wave climate, currents, bathymetry),

b. Natural resources (minerals, energy resources, fishes and other aquatic organisms, protected species and habitats, marine mammals, kelp beds, eelgrass beds, biodiversity),

c. Social, historical, and cultural resources (cultural and subsistence harvest, community subsistence hunting, subsistence fishing, culturally important sites to encourage or avoid, shipwrecks),

d. Government boundaries,

e. Industry (fishing, energy production, transportation, communication cables),

f. Military,

g. Navigation, and

h. Recreational resources (fishing, hunting, etc.).

9. Are there aquaculture species or gear considerations that may result in optimized growth in Alaska State waters? This might include (but is not limited to): species or aquaculture gear depth thresholds, water current thresholds, temperature thresholds, salinity thresholds, etc. Are there any species or gear not currently being used in Alaska State waters that you would like to see in the future? Do they extend any of these (or other) thresholds? Please be as specific as possible.

10. Is there any additional information NOAA should consider?

When providing input, please specify:

• The question number(s) you are responding to; and

• Whether your comments are related to specific type(s) of aquaculture (macroalgae, invertebrates, or a combination of species).

Responses to this request are voluntary. Respondents need not reply to all questions.

Authority: E.O. 13921.

Dated: November 21, 2023.
Kristine Cherry,
Acting Deputy Director, Office of Aquaculture, National Marine Fisheries Service, National Oceanic and Atmospheric Administration.

[FR Doc. 2023-26128 Filed 11-27-23; 8:45 am]

BILLING CODE 3510-22-P